OFFICE OF THE UNITED STATES TRADE REPRESENTATIVE

Revised Fiscal Year 2008 Tariff-Rate Quota Allocations for Refined Sugar

AGENCY: Office of the United States Trade Representative.

ACTION: Notice.

SUMMARY: The Office of the United States Trade Representative (USTR) is providing notice of additional country-by-country allocations of the in-quota quantity of the tariff-rate quotas for imported refined sugar for the period August 14, 2008 through December 31, 2008 (FY 2008).

DATES: Effective Date: August 13, 2008.

ADDRESSES: Inquiries may be mailed or delivered to Leslie O'Connor, Director of Agricultural Affairs, Office of Agricultural Affairs, Office of the United States Trade Representative, 600 17th Street, NW., Washington, DC 20508.

FOR FURTHER INFORMATION CONTACT: Leslie O'Connor, Office of Agricultural Affairs, telephone: 202-395-6127 or facsimile: 202-395-4579.

SUPPLEMENTARY INFORMATION: Pursuant to Additional U.S. Note 5 to chapter 17 of the Harmonized Tariff Schedule of the United States (HTS), the United States maintains a tariff-rate quota for imports of refined sugar.

Section 404(d)(3) of the Uruguay Round Agreements Act (19 U.S.C. 3601(d)(3)) authorizes the President to allocate the in-quota quantity of a tariff-rate quota for any agricultural product among supplying countries or customs areas. The President delegated this authority to the United States Trade Representative under Presidential Proclamation 6763 (60 FR 1007).

On August 6, 2008, the Secretary of Agriculture increased the in-quota quantity of the tariff-rate quota for refined sugar for FY 2008 by 272,155 metric tons raw value, none of which is for specialty sugars. A total of 40,000 metric tons raw value is being allocated to Canada. A total of 68,278 metric tons raw value is being allocated to Mexico. The remaining 163,877 metric tons raw value of the in-quota quantity may be supplied by any country on a first-come, first-served basis, subject to any other provision of law. The certificate of quota eligibility is required for sugar entering under the tariff-rate quota for refined sugar that is the product of a country that has been allocated a share of the tariff-rate quota for refined sugar.

Susan C. Schwab,
United States Trade Representative.

[FR Doc. E8-18769 Filed 8-12-08; 8:45 am]

BILLING CODE 3190-W8-P